Presidential Determination No. 2005-33 of August 29, 2005

Waiving Prohibition on Use of FY 2005 Economic Support Funds with Respect to Jordan

Memorandum for the Secretary of State

Consistent with the authority vested in me by section 574 of the Foreign Operations, Export Financing, and Related Programs Appropriations Act, 2005 (the “Act”), Division D of Public Law 108-447, I hereby:

•

Determine that it is important to the national security interests of the United States to waive, for a period of 6 months from the date of this determination, the prohibition of section 574(a) of the Act with respect to Jordan; and

•

Waive the prohibition with respect to this country for that period.

You are authorized and directed to report this determination to the Congress, and to arrange for its publication in the Federal Register.

B

THE WHITE HOUSE,

Washington, August 29, 2005.

[FR Doc. 05-18739

Filed 9-16-05; 8:45 am]

Billing code 4710-10-P